DEPARTMENT OF THE INTERIOR

Bureau of Indian Affairs

Land Acquisitions; Nisqually Indian Tribe

AGENCY: Bureau of Indian Affairs, Interior.

ACTION: Notice of final agency action to transfer title from the United States to the Nisqually Tribe as mandated by Congress.

SUMMARY: The Assistant Secretary—Indian Affairs accepts the transfer of the approximately 179.14 acres, more or less, in trust for the Nisqually Indian Tribe of Washington, from the United States Army Corps of Engineers.

FOR FURTHER INFORMATION CONTACT: Ben Burshia, Bureau of Indian Affairs, Chief, Division of Real Estate Services, MS-4639-MIB, 1849 C Street, NW., Washington, DC 20240, telephone no. (202) 208-7737.

SUPPLEMENTARY INFORMATION: This notice is published in the exercise of authority delegated by the Secretary of the Interior to the Assistant Secretary—Indian Affairs by 209 DM 8.

Pursuant to subsection (a)(1) of section 2837 of the National Defense Authorization Act for Fiscal Year 2002, Public Law 107-107, 115 Stat. 1012, 1315-1316, as amended by Section 2852 of the Ronald W. Reagan National Defense Authorization Act for Fiscal Year 2005, Public Law 108-375, 118 Stat. 1811, 2143-2144, as amended by Section 2862 of the National Defense Authorization Act for Fiscal Year 2010, Public Law 111-84, 123 Stat. 2190, 2694, the Assistant Secretary—Indian Affairs, on behalf of the Department of the Interior, Bureau of Indian Affairs, has accepted the custody and administrative accountability for approximately 179.14 acres of land at the Fort Lewis Military Reservation, Thurston County, Washington, subject to the terms, conditions, reservations, and restrictions as described in the transfer letter, to be held in trust for the Nisqually Indian Tribe of the Nisqually Reservation.

Legal Description of the Property Acquired

The property acquired includes all of the following described tracts of land comprising a net area of 179.14 acres of land, more or less, situated within Thurston County, Washington, to wit: Two parcels of land in Section 33 in Township 18 North, Range 1 East, Willamette Meridian, in Thurston County, Washington, more particularly described as follows:

Parcel 1:

That portion of Tract A-1 (described below) being in the northwest quarter (NW¼) of Section 33 of Township 18 North, Range 1 East, Willamette Meridian, lying northerly of the north right-of-way line of Yelm Highway SE and southwesterly of the southwest right-of-way line of Olympia-Yelm Road being State Highway 510 (formerly 5-1); and

Parcel 2:

That portion of Tract A-1 (described below) being in the northwest quarter (NW¼) and the southwest quarter of the northeast quarter (SW¼NE¼) of Section 33, of Township 18 North, Range 1 East, Willamette Meridian, and that portion of Tract A-2 (described below) being the north half of the northeast quarter (N½NE¼) and the southeast quarter of the northeast quarter (SE¼NE¼) of Section 33, of Township 18 North, Range 1 East, Willamette Meridian, lying northerly of the north right-of-way line of Olympia-Yelm Road being State Highway 510 (formerly 5-1).

The aggregate total acres for the two parcels are 179.14 acres, more or less.

Tract A-1

The southwest quarter of the northeast quarter (SW¼NE¼), the southwest quarter (SW¼), the northwest quarter (NW¼), and the west half of the southeast quarter (W½SE¼) of Section 33 in Township 18 North, Range 1 East, Williamette Meridian, in Thurston County, Washington.

Tract A-2

The north half of the northeast quarter (N½NE¼), the southeast quarter of the northeast quarter (SE¼NE¼), and the northeast quarter of the southeast quarter (NE¼SE¼) of Section 33 in Township 18 North, Range 1 East, Williamette Meridian, in Thurston County, Washington.

Dated: September 3, 2010.
Larry Echo Hawk,
Assistant Secretary—Indian Affairs.

[FR Doc. 2010-22845 Filed 9-13-10; 8:45 am]

BILLING CODE 4310-W7-P